DEPARTMENT OF COMMERCE

Patent and Trademark Office

Admittance to Practice and Roster of Registered Patent Attorneys and Agents Admitted to Practice Before the United States Patent and Trademark Office (USPTO) (Proposed Addition)

ACTION: Proposed collection; comment request.

SUMMARY: The United States Patent and Trademark Office (USPTO), as part of its continuing effort to reduce paperwork and respondent burden, invites the general public and other Federal agencies to take this opportunity to comment on the revision of a currently approved collection, as required by the Paperwork Reduction Act of 1995, Public Law 104-13 (44 U.S.C. 3506(c)(2)(A)).

DATES: Written comments must be submitted on or before August 1, 2011.

ADDRESSES: You may submit comments by any of the following methods:

• E-mail: InformationCollection@uspto.gov. Include “0651-0012 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to the attention of William Griffin, Staff Attorney, Office of Enrollment and Discipline, United States Patent and Trademark Office (USPTO), P.O. Box 1450, Alexandria, VA 22313-1450; by telephone at 571-272-4097; or by e-mail to William.Griffin@uspto.gov.

SUPPLEMENTARY INFORMATION:

I. Abstract

This collection of information is required by 35 U.S.C. 2(b)(2)(D), which permits the United States Patent and Trademark Office (USPTO) to establish regulations governing the recognition and conduct of agents, attorneys or other persons representing applicants or other parties before the USPTO. This statute also permits the USPTO to require information from applicants that shows that they are of good moral character and reputation and have the necessary qualifications to assist applicants with the patent process and to represent them before the USPTO.

The USPTO administers the statute through 37 CFR 1.21, 11.5-11.14 and 11.28. These rules address the requirements to apply for the examination for registration and to demonstrate eligibility to be a registered attorney or agent before the USPTO. The Office of Enrollment and Discipline (OED) collects information to determine the qualifications of individuals entitled to represent applicants before the USPTO in the preparation and prosecution of applications for a patent. The OED also collects information to administer and maintain the roster of attorneys and agents registered to practice before the USPTO. Information concerning registered attorneys and agents is published by the OED in a public roster that can be accessed through the USPTO Web site.

The USPTO is introducing a new form, Request for Reasonable Accommodation, to facilitate an applicant's request for reasonable accommodation when they apply for the examination for registration to practice before the USPTO. A copy of this new form will be available at http://www.uspto.gov/news/fedreg/fr_2011.jsp. This information is currently collected without a form as part of the approved item, Application for Registration to Practice Before the United States Patent and Trademark Office (PTO Form 158). Applicants currently check Box 1a and then provide the necessary supporting documentation as an attachment (see the form with instructions and details on page 18 at http://www.uspto.gov/ip/boards/ord/grb.pdf). This new form will assist applicants in providing the USPTO with the correct and necessary supporting documentation through a standardized format.

To the extent possible, the applicant must provide detailed responses to the questions in the Applicant's Statement. The applicant must also provide a completed Licensed Health Care Professional's Statement and/or other acceptable evidence to support the claim.

An applicant who received a reasonable accommodation(s) for a prior registration examination must submit a new Applicant's Statement with each new Application for Registration (PTO Form 158). Depending on the type of impairment from which the applicant suffers, the applicant has the option of submitting a new Licensed Health Care Professional's Statement as well. In deciding whether to submit a new Licensed Health Care Professional's Statement, the applicant is advised to consider that the Agency's determination of both whether to grant an accommodation and what accommodation(s) is appropriate is based on an assessment of the current impact of the applicant's disability on the testing activity. For example, if the applicant suffers from an impairment that is temporary or changes over time, it may not be possible for the Agency to assess whether an accommodation should be granted if the Licensed Health Care Professional's Statement is not current. For chronic or long-term conditions, a new Licensed Health Care Professional's Statement may not be necessary.

II. Method of Collection

An applicant should provide detailed responses to the questions in the Applicant's Statement. An applicant may use additional paper, if necessary, to answer the questions. The applicant must also provide a completed Licensed Health Care Professional's Statement and/or other acceptable medical evidence to support the claim. The completed package should be submitted to the United States Patent and Trademark Office's Office of Enrollment and Discipline with the completed Application Form 158. A Request for Reasonable Accommodation submitted separately from the Application Form 158 should be addressed to Mail Stop OED, Director of the U.S. Patent and Trademark Office, P.O. Box 1450, Alexandria, VA 22313-1450. For additional guidance, the Office of Enrollment and Discipline may be contacted at 571-272-4097.

III. Data

OMB Number: 0651-0012.

Form Number(s): N/A.

Type of Review: Revision of a currently approved collection.

Affected Public: Individuals or households.

Estimated Number of Respondents: 40 responses per year.

Estimated Time per Response: The USPTO estimates that it will take the public approximately 1.5 hours to complete the Reasonable Accommodations Request, depending upon the situation.

Estimated Total Annual Respondent Burden Hours: 60 hours per year.

Estimated Total Annual Respondent Cost Burden: $19,500. Using the median hourly rate for attorneys in private firms of $325, the USPTO estimates $19,500 per year in cost burden associated with respondents. This is a fully loaded hourly rate.

Item | Estimated time for response (hours) | Estimated annual responses | Estimated annual burden hours
Request for Reasonable Accommodation | 1.5 | 40 | 60
Total |  | 40 | 60

Estimated Total Annual (Non-hour) Respondent Cost Burden: $31. There are no maintenance or record keeping costs, as well as no filing fees associated with this information collection. However, there is annual (non-hour) cost burden in the form of postage costs.

Although the Reasonable Accommodation Requests are submitted to the USPTO along with the Application for Registration to Practice Before the USPTO, they are additional pages of information and will require additional postage. These documents may be submitted to the USPTO by first-class mail through the United States Postal Service. The USPTO estimates the submission will weigh 3 ounces and that the average first-class postage is 78 cents. Therefore the USPTO estimates that it will receive 40 responses per year, for a total of $31 (40 × $0.78) in postage costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: May 25, 2011.
Susan K. Fawcett,
Records Officer, USPTO, Office of the Chief Information Officer.

[FR Doc. 2011-13369 Filed 5-27-11; 8:45 am]

BILLING CODE 3510-16-P